DEPARTMENT OF JUSTICE

Office of Juvenile Justice and Delinquency Prevention

[OJP(OJJDP)-1358]

Program Announcement for the Promising Programs for Substance Abuse Prevention: Replication and Evaluation Initiative

AGENCY: Office of Justice Programs, Office of Juvenile Justice and Delinquency Prevention, Justice.

ACTION: Notice of solicitation.

SUMMARY: The Office of Juvenile Justice and Delinquency Prevention (OJJDP) is requesting applications for the Promising Programs for Substance Abuse Prevention: Replication and Evaluation Initiative, a 2-year initiative that will replicate and evaluate the effectiveness of two school-based substance abuse prevention programs: Project ALERT and Project SUCCESS. Through this research initiative, OJJDP seeks to determine whether positive program outcomes can be replicated in different communities and sustained over time. The evaluator will select two replication sites (one for each program model), oversee program implementation in those sites, and work with program developers to assess and promote program fidelity at each site. The evaluator will conduct an outcome evaluation of the programs' effectiveness in preventing, reducing, and/or eliminating substance abuse by youth. Findings will enhance knowledge about effective strategies for prevention of substance abuse by youth and help communities decide how to spend the limited resources that are available for prevention activities.

DATES: Applications must be received by December 30, 2002.

ADDRESSES: Interested applicants can obtain the OJJDP Application Kit by calling the Juvenile Justice Clearinghouse at 800-638-8736, by sending an e-mail request to puborder@ncjrs.org, or through fax-on-demand. (For fax-on-demand, call 800-638-8736, select option 1, then select option 2 and enter the following four-digit numbers: 9119, 9120, 9121, and 9122. Application kits will be faxed in four sections because of the number of pages.) The Application Kit is also available online at http://www.ncjrs.org/pdffiles1/ojjdp/sl000480.pdf.

All applicants must submit the original application (signed in blue ink) and five copies. Applications should be unbound and fastened by a binder clip in the top left-hand corner. OJJDP strongly recommends that applicants number each page of the application. To ensure that applications are received by the due date, applicants should use a mail service that documents the date of receipt. Because OJJDP anticipates sending applicants written notification of application receipt approximately 4 weeks after the solicitation closing date, applicants are encouraged to use a traceable shipping method. Faxed or e-mailed applications will not be accepted. Postmark dates will not be accepted as proof of meeting the deadline. Applications received after 5 p.m. ET on December 30, 2002 will be deemed late and may not be accepted. The closing date and time apply to all applications. To ensure prompt delivery, please adhere to the following guidelines:

Applications sent by U.S. mail: Use registered mail to send applications to the following address: Office of Juvenile Justice and Delinquency Prevention, c/o Juvenile Justice Resource Center, 2277 Research Boulevard, Mail Stop 2K, Rockville, MD 20850. In the lower left-hand corner of the envelope, clearly write “Promising Programs for Substance Abuse Prevention: Replication and Evaluation Initiative.”

Applications sent by overnight delivery service: Allow at least 48 hours for delivery. Send applications to the following address: Office of Juvenile Justice and Delinquency Prevention, c/o Juvenile Justice Resource Center, 2277 Research Boulevard, Mail Stop 2K, Rockville, MD 20850; 800-638-8736 (phone number required by some carriers). In the lower left-hand corner of the envelope, clearly write “Promising Programs for Substance Abuse Prevention: Replication and Evaluation Initiative.”

Applications delivered by hand: Deliver by 5 p.m. ET, December 30, 2002, to the Juvenile Justice Resource Center, 2277 Research Boulevard, Rockville, MD 20850; 301-519-5535. Hand deliveries will be accepted daily between 8:30 a.m. and 5 p.m. ET, excluding Saturdays, Sundays, and Federal holidays. Entrance to the resource center requires proper photo identification.

FOR FURTHER INFORMATION CONTACT: Janet Chiancone, Program Manager, Research and Program Development Division, Office of Juvenile Justice and Delinquency Prevention, 202-353-9258 [This is not a toll-free number.] (e-mail: chiancoj@ojp.usdoj.gov.)

SUPPLEMENTARY INFORMATION:

Purpose

The purpose of the Promising Programs for Substance Abuse Prevention: Replication and Evaluation Initiative is to replicate and test the effectiveness of two school-based substance abuse prevention programs: Project ALERT and Project SUCCESS.¹ OJJDP seeks to determine whether the positive outcomes found in prior evaluations can be replicated in other sites. Identifying programs that meet these requirements will enhance the field's knowledge about “what works” in youth substance abuse prevention and will help communities decide how to spend the limited resources that are available for prevention activities.

¹ Detailed information about both program models is available on the OJJDP Web site at ojjdp.ncjrs.org/grants/current.html. To receive faxed information about the program models, call 800-638-8736 or 301-519-6556 and follow the step-by-step instructions to request item number 2005.

As a result of this solicitation, OJJDP will select a grantee to oversee the replication of Project ALERT and Project SUCCESS and then evaluate the outcomes.

Background

This program is authorized by Congress as set forth under the Fiscal Year 2002 Appropriations Act, Public Law 107-77 (November 28, 2001).

Substance abuse is one of the most troubling problems facing communities throughout the Nation. It touches many facets of Americans' lives, affecting crime, education, health care costs, and the productivity of the Nation as a whole. Estimates indicate that substance abuse contributes to 130,000 deaths annually and costs approximately $275 billion in health care expenses, lost productivity, related crime, and other social costs (U.S. Department of Justice, Office of Justice Programs, 2000).

Over the past several decades, prevention research has focused on identifying the factors that put young people at risk for delinquency (risk factors) and those that decrease the likelihood that they will engage in problem behaviors (protective factors). Studies of risk and protective factors for delinquency have enabled researchers to identify the probability that youth will become involved in delinquent and predelinquent behavior. These efforts have identified numerous risk factors for substance abuse, including the availability of drugs, early academic failure, family conflict, and extreme economic deprivation (Howell, 1995). Many of these risk factors are associated not only with substance abuse but also with an array of physical, mental, and behavioral problems. For example, school failure is a strong predictor of substance abuse, juvenile delinquency, and other problem behaviors (Howell, 1995). Research has also demonstrated that early youth involvement with any drug is a risk factor for later problem behavior and criminal activity. Further, the more severe the early involvement, the greater the likelihood that antisocial behaviors will emerge. OJJDP's Program of Research on the Causes and Correlates of Delinquency found a strong relationship between drug use and serious delinquent behavior (Huizinga et al., 2000). Although none of these findings indicate that substance abuse is a direct cause of crime and/or violence, the two are clearly interrelated.

Exposure to these risk factors, however, does not guarantee that a youth will engage in problem behaviors or develop a substance abuse problem. Many youth exposed to multiple risk factors avoid problem behaviors as a result of protective factors that help to insulate them from these influences. Protective factors include bonds with adults who exert a positive influence, a positive social orientation, and/or a resilient temperament. Such factors appear to protect youth from initiating drug use and engaging in other problem behaviors.

A recent report published by The National Center on Addiction and Substance Abuse at Columbia University (CASA) indicates that religion may provide some protective influence for youth when it comes to substance abuse (National Center on Addiction and Substance Abuse, 2001). For example, CASA's annual teen surveys of attitudes on substance abuse have consistently found that adolescents who report attending religious services are less likely to report substance abuse. The CASA report also cites some other research studies which have found that involvement in faith-based activities is associated with lower levels of substance use.

Prevention efforts must seek to reduce youth's exposure to risk factors while increasing the number of protective factors in their lives. In addition, prevention programs must be appropriate for the culture, gender, and age of the target population.

As knowledge of risk and protective factors has grown, policymakers, funding agencies, and program administrators have increasingly called for more accountability from prevention programs. Efforts sponsored by Federal agencies, State governments, private foundations, and other organizations have stressed the importance of implementing approaches that have been researched and proven effective. This increased emphasis on performance has prompted many needed developments, including the recognition that programs with scientifically defensible findings must drive services. In addition, although effective drug prevention curriculums exist, research suggests that most of the drug prevention funding in this country is spent on aggressively marketed programs that have not been evaluated or proven effective (Dusenbury, Falco, and Lake, 1997).

Although prevention research has made great strides over the past several decades, the focus on research-based programs poses a challenge to prevention practitioners. It is particularly difficult for them to identify prevention efforts that have clearly linked program outcomes to program interventions. Therefore, it is critical to identify such approaches and to disseminate this information to the field so that research-based prevention programs are implemented.

Additionally, a lack of research funding often results in evaluations of substance abuse prevention programs that are limited in scope and do not have the level of rigor needed to determine true effectiveness. In an attempt to serve as many youth and families as possible, funds often are spent primarily on program activities, while spending on evaluation activities is restricted. Even when program effectiveness is measured, programs rarely conduct followup research to determine whether those effects are sustained over time. If OJJDP and the juvenile justice community are to identify what strategies prevent juvenile substance abuse, program evaluations must meet higher standards.

In developing this initiative, OJJDP relied on the knowledge and experience of two prevention centers: The Center for the Study and Prevention of Violence (CSPV) at the University of Colorado, Boulder (http://www.colorado.edu/cspv/blueprints) and The Center for Substance Abuse Prevention (CSAP) National Registry of Effective Prevention Programs (http://www.samhsa.gov/centers/csap/modelprograms). These centers provide communities with information about programs that effectively prevent substance abuse and/or violence among juveniles.

Goals

The overall goal of OJJDP's Promising Programs for Substance Abuse Prevention: Replication and Evaluation Initiative is to evaluate two substance abuse prevention program models that have shown promising results. Through this research initiative, OJJDP seeks to determine whether positive outcomes can be replicated in different communities and sustained over time. Specific research questions that OJJDP seeks to answer through this evaluation include:

• Are these programs effective in preventing, reducing, and/or eliminating youth substance abuse?

• Can the positive effects of these programs be replicated in other sites?

• Can the positive effects be sustained for 1 year after program completion?

Objectives

The objectives of this initiative are as follows:

• Select two appropriate replication sites and oversee the implementation of program activities in those sites.

• Work with the developer of each program model to document program implementation of the replication sites and to assess and promote program fidelity.

• Conduct a rigorous outcome evaluation of the replication efforts to measure the programs' effectiveness in preventing, reducing, and/or eliminating youth substance use.

Project Strategy

OJJDP will competitively award one cooperative agreement from this solicitation. The applicant selected will be responsible for overseeing the identification of appropriate replication sites, working with developers of the program models to ensure that the programs are implemented with fidelity to the respective model, and conducting a rigorous outcome evaluation of both replication efforts. Given the purpose and goals of this initiative, OJJDP requires that the evaluation meet these minimum standards:

• Experimental or quasi-experimental design. The evaluator must use either an experimental or quasi-experimental design. Ideally, an evaluation design randomly assigns subjects to either experimental or control conditions. However, if a service intervention applies to a group (such as a classroom), this design may simply not be feasible (Wagner, Swenson, and Henggeler, 2000). In such cases, a quasi-experimental design in which experimental classrooms or schools are matched with control classrooms or schools might be more appropriate. For this initiative, OJJDP intends to use the most rigorous evaluation design possible for each program model.

• Adequate sample sizes. Evaluators must ensure that sample sizes are large enough to detect statistically significant differences between experimental and control groups. Although it is difficult to quantify in advance the actual number of subjects that will be needed, the national evaluator should plan on a minimum sample size of 200 subjects (100 in the experimental group and 100 in the control group) throughout the project period. Keeping in mind the probability of a high attrition rate (especially with at-risk subjects), the national evaluator must plan for a sample size that will be adequate after attrition.

• Appropriate measures. The evaluator must use measures proven to be reliable and valid. Because this initiative intends to further test the effectiveness of these two programs, the national evaluator should use instruments that, at a minimum, measure the same indicators as those measured in previous program evaluations. As part of their proposals, applicants must fully describe the measures they plan to use and justify their selection of those measures. However, the final selection of measures will occur in consultation with the Evaluation Advisory Board (discussed later in this solicitation) and OJJDP. The national evaluator must apply evaluation measures fairly, accurately, and consistently with regard to all study participants.

• Measurement of sustained effects. One factor that determines program effectiveness is whether the effects of the program extend beyond the program period. The national evaluator should plan to measure the effects of each program model 1 year after the program ends.

Eligibility Requirements

OJJDP invites applications from public and private agencies, organizations, institutions, and individuals. Applicants must demonstrate both a capacity to manage this replication effort and experience in evaluating substance abuse prevention programs. Private, for-profit organizations must agree to waive any profit or fee. Joint applications from two or more eligible applicants are welcome, as long as one is designated as the primary applicant and the others are designated as coapplicants.

Major Tasks

The applicant selected for funding will be required to perform the following activities.

Identify and Recommend Selection of Replication Sites

The applicant selected as the national evaluator should be prepared to work with OJJDP and the Advisory Board to identify and select two replication sites (one for each program model). A primary factor in determining whether to select a site for replication will be the site's preparedness to implement the program and participate in a rigorous evaluation.

Within the first 2 months of award, the evaluator will be responsible for developing the criteria that will determine the preparedness of a site for selection as a replication site. Identification of replication sites may include conducting site visits (possibly in conjunction with OJJDP staff and program model developers) and meeting with school personnel, potential project partners, and others to determine the readiness of a site to participate in this replication initiative and evaluation. The national evaluator will compile and analyze the results of the site visits and other data and provide that information to OJJDP and the Evaluation Advisory Board (see the “Product Delivery and Timeline” section).

Establish Evaluation Advisory Board

During the first 3 months of the project, the national evaluator will establish and convene an Evaluation Advisory Board to oversee the activities in this project. The Advisory Board membership will include representatives from OJJDP, CSAP, CSPV, Project ALERT, and Project SUCCESS. Applicants must include letters of commitment from three other individuals who will serve on this Advisory Board. These individuals should have expertise in one or more of the following areas: Research design and methodology, youth substance abuse, youth and family development, organizational development and community-based programming, and research in school and/or community settings. Applicants should anticipate that the Evaluation Advisory Board will meet three times during the first budget period (24 months) at a location to be determined.

Process Evaluation

During the first 24 months of the project, the national evaluator will conduct a process evaluation of the two replication sites to ensure that the implementation remains true to the chosen program model. This activity will include developing materials that inform the local project staff about the process evaluation strategy, including instruments, mechanisms, and procedures for collecting and processing data. The national evaluator will be responsible for compiling and analyzing results of the process evaluation and providing routine feedback to the sites on the program planning, development, and implementation process.

Outcome Evaluation Design

During months 7-9, the national evaluator will design a rigorous outcome evaluation for each of the two replication sites. As part of their proposals, applicants must submit a basic framework for evaluating each of the two program models. These frameworks must be included in the application package submitted to OJJDP. Once the replication sites have been selected, the national evaluator must expand the two basic frameworks to create a detailed outcome evaluation design for each site. The outcome evaluations should include a strong research design that, at a minimum, meets the four standards set forth in the “Project Strategy” section of this solicitation. The evaluation must also include an onsite component.

The final evaluation designs will be prepared in consultation with the replication sites, the Evaluation Advisory Board, and OJJDP. During this period, the applicant will work with OJJDP to prepare information that will be submitted to the Office of Management and Budget (OMB) as required under the Paperwork Reduction Act (PRA) of 1995, Public Law 104-13. (See “Project Design” for more information about this requirement.)

Outcome Evaluation Implementation

Once OJJDP approves the final designs for the outcome evaluation, the national evaluator will conduct the evaluation at each replication site. Implementation of the outcome evaluation is expected to begin in month 10 and continue through month 24—the end of the first budget period—and beyond (see “Budget”). The national evaluator will provide onsite training and technical assistance to site staff regarding data handling procedures and confidentiality issues and will provide sites with the materials and expertise needed to collect and report data (including instruments, databases, and other materials).

Product Delivery and Timeline

The national evaluator will be required to develop several products, including the following:

• A draft document that outlines the criteria that will be used to select the two sites for replication and evaluation. This document is due to OJJDP and the Evaluation Advisory Board 3 months after the grant award.

• A document that recommends which two sites should be selected for participation in this evaluation initiative. This document is due to OJJDP and the Evaluation Advisory Board 6 months after the grant award.

• A draft document that details the evaluation designs for outcome evaluations of Project ALERT and Project SUCCESS. This document is due to OJJDP 9 months after the grant award.

• Copies of materials prepared for the replication sites; materials should communicate the process and outcome evaluation strategy, including instruments, mechanisms, and procedures to collect process data. These materials are due to OJJDP 12 months after the grant award.

• A draft article (written in a style appropriate for submission to a peer-reviewed research journal) that describes the methodology being used in conducting the outcome evaluations. This document is due to OJJDP 18 months after the grant award.

• An Interim Evaluation Report that documents the activities accomplished in the first budget period (24 months) and provides a workplan for the following budget period. This document is due to OJJDP 20 months after the grant award.

Following the first budget period, OJJDP may require the national evaluator to prepare additional products, including the following:

• An OJJDP Bulletin that details the activities and findings of the replication initiative, including the findings of the process and outcome evaluations.

• A minimum of two articles (written in a style appropriate for submission to a peer-reviewed research journal) that detail the findings of each program and of the outcome evaluation.

Selection Criteria

Applicants will be evaluated and rated by a peer review panel according to the criteria outlined below.

Problems To Be Addressed (25 points)

Applicants must clearly and concisely discuss their understanding of the effects of prevention, intervention, and treatment of youth substance abuse. The programs being replicated address risk and protective factors that include multiple domains and have causal linkages to youth substance abuse, including academic failure and mental health issues. Applicants should demonstrate an understanding of these risk factors, including their interrelationship and impact on youth substance abuse and delinquency. In addition, applicants should discuss evaluation methods for measuring the program's ability to prevent and/or reduce substance abuse among youth.

Applicants should also discuss how they will use rigorous evaluation methods to achieve the evaluation objectives. As part of this discussion, applicants should address any anticipated problems associated with identifying replication sites, carrying out the replication activities, and/or evaluating the two program models and should propose potential solutions. Applicants should demonstrate a thorough understanding of substance abuse prevention programming, theory-driven evaluation, school-based prevention and intervention programs, and experimental research methods.

Goals and Objectives (10 points)

To conduct and complete this evaluation effectively, applicants must define specific, measurable goals and objectives. These should be guided by the requirements of this solicitation.

Project Design (30 points)

Applicants must present a clear design, accompanied by a timetable, that details how they will accomplish the goals and objectives of this initiative and deliver the required products. Applicants should address the major activities described in this solicitation and how they will carry out the activities. Replication activities that should be discussed include the following:

• Developing criteria for site selection.

• Working with OJJDP and the program model developers to identify and select replication sites.

• Managing the distribution of funds to the replication sites.

• Providing oversight of program implementation activities.

Evaluation activities that should be discussed include, but are not limited to, the following:

• Consulting with the program model developers.

• Developing evaluation instruments.

• Determining methods.

• Disseminating information.

• Communicating with site personnel.

• Conducting (or managing) onsite evaluation activities.

• Monitoring the evaluation's progress.

Applicants must include in the proposal narrative two draft evaluation frameworks (each one no longer than four double-spaced pages) that outline the design and methodology proposed for evaluating each of the two program models. Applicants must propose evaluation designs that will foster a collaborative and supportive relationship between the program sites, the developers of the program models, OJJDP, and themselves.

The national evaluator should be prepared to work with OJJDP in preparing information that will be submitted to OMB as required under the Paperwork Reduction Act (PRA) of 1995, Public Law 104-13. Under this Act, the national evaluator must submit an extensive narrative that both states what goals and methods are planned for data collection and justifies the burden placed on respondents. The OMB clearance process includes two public comment periods and takes a minimum of 90 days, although it can take up to 180 days. Applicants should incorporate the activities associated with PRA requirements into the timetable.

Management/Organizational Capability (25 points)

Applicants must include a discussion of how they will manage and coordinate this replication evaluation initiative to achieve its goals and objectives. Management structure and staffing must be adequate and appropriate for successful project implementation. Applicants must identify responsible individuals and key consultants and specify their time commitments and major tasks. Key staff and consultants must have significant experience with evaluation research, particularly research on substance abuse prevention and research that uses an experimental or quasi-experimental design. Resumes for key staff and key consultants must be attached as part of the application's appendixes.

Applicants must demonstrate existing relationships and the ability to work effectively with a range of agencies and service providers, including, but not limited to, schools, courts, law enforcement agencies, child protective service agencies, mental health service providers, and other community agencies. Because the two models being replicated are school-based programs, experience in conducting evaluation research in a school setting is vital. In addition, applicants should highlight any previous experience in conducting evaluations of any of the programs being replicated through this initiative or any other prevention programs.

Applicants must present a detailed timeline that identifies responsible individuals and their time commitments, major tasks, and milestones (e.g., advisory board meetings, products due to OJJDP).

Budget (10 points)

Applicants must provide a proposed budget that is complete, reasonable, and allowable in relation to the activities to be undertaken. The maximum funding available for the first budget period (24 months) is $2 million. This amount includes costs for all activities: The replication efforts, the process evaluations, and the outcome evaluations. Applicants should set aside $1 million of this amount for the replication efforts over a 3-year period ($650,000 for Project SUCCESS and $350,000 for Project ALERT). The remaining $1 million is for process and outcome evaluation activities for the first 24-month budget period, including the following mandatory items: costs related to site identification (including travel, if appropriate), costs for Evaluation Advisory Board meetings, travel costs, and costs associated with the evaluation activities. An applicant's budget should include the time, travel, and meeting costs incurred by the six non-Federal Advisory Board members. An applicant should also include in the budget any costs associated with process evaluation activities, including consultation with the developers of Project SUCCESS and Project ALERT.

The full project period is 5 years, and we anticipate that applicants will apply for continuation funding for the balance of the project during the 20th month.

Format

The narrative portion of this application must be submitted on 8½- by 11-inch paper, double spaced, on one side only, and printed in a standard 12-point font. All sections of the narrative must be double spaced, including bullets, lists, tables, and quotations. (References and/or endnotes at the end of the narrative, appendixes, forms, assurances, and budget worksheets and accompanying narrative do not count toward the page limit.) These requirements are necessary to maintain fair and uniform consideration of all applicants. If the narrative does not conform to these standards, OJJDP will deem the application ineligible for consideration. The application narrative must not exceed 50 pages, including the 8 pages describing the evaluation frameworks.

Award Period

OJJDP plans to fund the replication evaluation for 5 years. The present solicitation will award funding for the initial budget period of 24 months. Funding after the first budget period will depend on grantee performance, availability of funds, and other criteria established at the time of the award.

Award Amount

Up to $2 million is available for the initial 24-month budget period.

Human Subjects

Applicants are advised that any project that will involve the use of human research subjects must be reviewed by an Institutional Review Board (IRB), in accordance with U.S. Department of Justice regulations at 28 CFR 46. IRB review is not required prior to submission of the application. However, if an award is made and the project involves research using human subjects, OJJDP will place a special condition on the award requiring that the project be approved by an appropriate IRB before Federal funds can be expended on activities involving human subjects. Applicants should include plans for IRB review in the project timetable submitted with the proposal.

Performance Measurement

To ensure compliance under the Government Performance and Results Act (GPRA), Public Law 103-62, this solicitation notifies applicants that they are required to collect and report data that measure the results of the program implemented with this grant. Performance under this solicitation is to be measured by the number of youth served by each drug demonstration program.

Award recipients will be required to collect and report data to demonstrate performance on this measure. Specifically, award recipients will be required to collect and report the following performance data:

• Data on the selection of two replication sites (one for each school-based substance abuse prevention program model), implementation of the models, and the results of outcome evaluations of the program models.

• Data on whether both evaluation sites met the rigorous scientific standards of social science research (e.g., appropriate sample sizes and instruments used) as determined after a formal, annual review to be conducted by the Advisory Board.

• Data on the review and resolution of any concerns identified in the Advisory Board's interim evaluation report.

• Best practices and methods for community prevention of juvenile substance abuse and allocation of limited substance abuse prevention resources, to be identified and disseminated after a peer review of the process and outcome evaluations.

Your assistance in obtaining this information will facilitate future program planning and will allow OJP to provide Congress with measurable results of federally funded programs.

Catalog of Federal Domestic Assistance (CFDA) Number

For this program, the CFDA number is 16.728. This number is required on Standard Form 424, Application for Federal Assistance. This form is included in the OJJDP Application Kit, available online at http://www.ncjrs.org/pdffiles1/ojjdp/sl000480.pdf.

Coordination of Federal Efforts

To encourage better coordination among Federal agencies in addressing State and local needs, DOJ requires applicants to provide information on the following items: (1) Active Federal grant award(s) from DOJ, (2) any pending application(s) for Federal funds for this or related efforts, and (3) plans for coordinating any funds described in items (1) and (2) with the funding sought by this application. For each Federal award, applicants must include the program and project title, Federal grantor agency, amount of the award, and a brief description of its purpose. For these purposes, the term “related efforts” is defined as one of the following:

• Efforts for the same purpose (i.e., the proposed award would supplement, expand, complement, or continue activities funded with other Federal grants).

• Another phase or component of the same program or project (e.g., to implement a planning effort supported by other Federal funds or to provide a substance abuse treatment or education component within a criminal justice project).

• Services of some kind (e.g., technical assistance, research, or evaluation) for the program or project described in the application.

Due Date

Applicants are responsible for ensuring that the original and five copies of the application package are received by 5 p.m. ET on December 30, 2002.

Contact Information

For further information, contact Janet Chiancone, Program Manager, Research and Program Development Division, 202-353-9258 (e-mail: chiancoj@ojp.usdoj.gov).

References

Dusenbury, L., Falco, M., and Lake, A. 1997. A review of the evaluation of 47 drug abuse prevention curricula available nationally. Journal of School Health 67(4):127-132.

Howell, J.C., ed. 1995. Guide for Implementing the Comprehensive Strategy for Serious, Violent, and Chronic Juvenile Offenders. Washington, DC: U.S. Department of Justice, Office of Justice Programs, Office of Juvenile Justice and Delinquency Prevention.

Huizinga, D., Loeber, R., Thornberry, T., and Cothern, L. 2000. Co-occurrence of Delinquency and Other Problem Behaviors. Bulletin. Washington, DC: U.S. Department of Justice, Office of Justice Programs, Office of Juvenile Justice and Delinquency Prevention.

U.S. Department of Justice, Office of Justice Programs. 2000. Promising Strategies to Reduce Substance Abuse. Report. Washington, DC: U.S. Department of Justice, Office of Justice Programs.

The National Center on Addiction and Substance Abuse (2001). So Help Me God: Substance Abuse, Religion and Spirituality (Report). New York, NY: The National Center on Addiction and Substance Abuse at Columbia University.

Wagner, E.F., Swenson, C.C., and Henggeler, S.W. 2000. Practical and methodological challenges in validating community-based interventions. Children's Services: Social Policy, Research, and Practice 3(4):211-231.

Suggested Readings

Ellickson, P.L., and Bell, R.M. 1990. Drug prevention in junior high: A multi-site longitudinal test. Science 247(4948):1299-1305.

Ellickson, P.L., Bell, R.M., and McGuigan, K. 1993. Preventing adolescent drug use: Long-term results of a junior high program. American Journal of Public Health 83(6):856-861.

Morehouse, E., and Tobler, N.S. 2000. Preventing and reducing substance use among institutionalized adolescents. Adolescence 35(137):1-28.

U.S. Department of Health and Human Services, Substance Abuse and Mental Health Services Administration. 2000. Summary of Findings from the 1999 National Household Survey on Drug Abuse. Washington, DC: U.S. Department of Health and Human Services, Substance Abuse and Mental Health Services Administration.

Dated: November 8, 2002.
J. Robert Flores,
Administrator, Office of Juvenile Justice and Delinquency Prevention.

[FR Doc. 02-28970 Filed 11-14-02; 8:45 am]

BILLING CODE 4410-18-P